DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than May 4, 2020.

Interested persons are invited to submit written comments regarding the subject matter of the investigations to the Administrator, Office of Trade Adjustment Assistance, at the address shown below, not later than May 4, 2020.

The petitions filed in this case are available for inspection at the Office of the Administrator, Office of Trade Adjustment Assistance, Employment and Training Administration, U.S. Department of Labor, Room N-5428, 200 Constitution Avenue NW, Washington, DC 20210.

Signed at Washington, DC this 10th day of April 2020.
Hope D. Kinglock,
Certifying Officer, Office of Trade Adjustment Assistance.

Appendix

111 TAA Petitions Instituted Between 3/1/20 and 3/31/20
TA-W | Subject firm (petitioners) | Location | Date of institution | Date of petition
95748 | Aclara Meters LLC (Company) | Somersworth, NH | 03/02/20 | 02/28/20
95749 | Aptargroup, Inc. (State/One-Stop) | Torrington, CT | 03/02/20 | 02/28/20
95750 | Conduent Patient Access Solutions (State/One-Stop) | Chesapeake, VA | 03/02/20 | 02/28/20
95751 | DENSO Air Systems Michigan, Inc. (State/One-Stop) | Battle Creek, MI | 03/02/20 | 02/28/20
95752 | Manchester Tank & Equipment Company (State/One-Stop) | Bedford, IN | 03/02/20 | 02/28/20
95753 | Spark Networks (State/One-Stop) | Lehi, UT | 03/02/20 | 02/26/20
95754 | US Steel (State/One-Stop) | Dearborn, MI | 03/02/20 | 02/28/20
95755 | International Automotive Components (IAC) (State/One-Stop) | Madisonville, KY | 03/03/20 | 03/02/20
95756 | Lufkin Industries a GE Oil & Gas (Baker Hughes) (State/One-Stop) | Lufkin, TX | 03/03/20 | 03/02/20
95757A | Mondelez Global LLC (Company) | East Hanover, NJ | 03/03/20 | 03/02/20
95757 | Mondelez Global LLC (Company) | Hanover Township, PA | 03/03/20 | 03/02/20
95758 | Southern Graphic Systems, LLC (Workers) | Louisville, KY | 03/03/20 | 03/02/20
95759 | Sterlingwear of Boston (Union) | Boston, MA | 03/03/20 | 03/02/20
95760 | Franchise World Headquarters dba Subway (State/One-Stop) | Milford, CT | 03/03/20 | 03/03/20
95761 | Thermo Fisher Scientific (FEI Co.) (State/One-Stop) | Hillsboro, OR | 03/03/20 | 03/02/20
95762 | Commercial Dehydrator Systems, Inc. (State/One-Stop) | Eugene, OR | 03/04/20 | 03/03/20
95763 | Hartshorne Mining Group, LLC (Workers) | Rumsey, KY | 03/04/20 | 03/03/20
95764 | Landis Gyr (State/One-Stop) | Pequot Lakes, MN | 03/04/20 | 03/03/20
95765 | Modern Business Machines (Xerox) (State/One-Stop) | Appleton, WI | 03/04/20 | 03/04/20
95766 | Modern Transmission Development Company (Company) | Leitchfield, KY | 03/04/20 | 03/03/20
95767 | Lufkin Industries LLC (State/One-Stop) | Lufkin, TX | 03/04/20 | 03/03/20
95768 | State Street Bank (State/One-Stop) | Quincy, MA | 03/04/20 | 03/03/20
95769 | Stewart & Stevenson (State/One-Stop) | Houston, TX | 03/04/20 | 03/03/20
95770 | Thermo Ramsey LLC (State/One-Stop) | Minneapolis, MN | 03/04/20 | 03/03/20
95771 | Aventri, Inc. (State/One-Stop) | Norwalk, CT | 03/05/20 | 03/05/20
95772 | Component Bar (State/One-Stop) | O'Fallon, MO | 03/05/20 | 03/04/20
95773 | HKT Teleservices (State/One-Stop) | Lincoln, NE | 03/05/20 | 03/04/20
95774 | Powerex Inc. (State/One-Stop) | Youngwood, PA | 03/05/20 | 03/03/20
95775 | Ridewell Suspensions (State/One-Stop) | Springfield, MO | 03/05/20 | 03/04/20
95776 | Rockland Industries (State/One-Stop) | Bamberg, SC | 03/05/20 | 03/04/20
95777 | Cardone Industries (State/One-Stop) | Harlingen, TX | 03/06/20 | 03/05/20
95778 | RTR Industries LLC (State/One-Stop) | Anaheim, CA | 03/06/20 | 03/05/20
95779 | Synamedia Americas, LLC (State/One-Stop) | Costa Mesa, CA | 03/06/20 | 03/05/20
95780 | Temp-Flex, L.L.C. (State/One-Stop) | South Grafton, MA | 03/06/20 | 03/04/20
95781 | The Travelers Indemnity Company (State/One-Stop) | Saint Paul, MN | 03/06/20 | 03/05/20
95782 | Ultra Clean Technology (Workers) | Hayward, CA | 03/06/20 | 03/05/20
95783 | UnitedHealth Group (State/One-Stop) | Minnetonka, MN | 03/06/20 | 03/05/20
95784 | Veritas Tools (State/One-Stop) | Ogdensburg, NY | 03/06/20 | 03/05/20
95785 | Senior Aerospace AMT (State/One-Stop) | Arlington, WA | 03/09/20 | 03/06/20
95786 | Arauco North America, Inc. (State/One-Stop) | Eugene, OR | 03/09/20 | 03/06/20
95787 | Arconic (State/One-Stop) | Hutchinson, KS | 03/09/20 | 03/06/20
95788 | Honeywell Safety Products (State/One-Stop) | Franklin, PA | 03/09/20 | 03/06/20
95789 | Jeannette Specialty Glass (Union) | Jeannette, PA | 03/09/20 | 03/06/20
95790 | Lanz Cabinets (State/One-Stop) | Eugene, OR | 03/09/20 | 03/06/20
95791 | Lippert Components Manufacturing, Inc. (State/One-Stop) | Nampa, ID | 03/09/20 | 03/06/20
95792 | Littelfuse, Inc. REVISED VERSION (State/One-Stop) | Rapid City, SD | 03/09/20 | 03/06/20
95793 | RealWear (State/One-Stop) | Vancouver, WA | 03/09/20 | 03/03/20
95794 | Saint Gobain SEFPRO dba Corhart Refractories (Union) | Buckhannon, WV | 03/09/20 | 03/05/20
95795 | SS&C Technology Holdings/formerly DST (State/One-Stop) | Kansas City, MO | 03/09/20 | 03/05/20
95796 | Tyson Foods, Inc. (State/One-Stop) | Springdale, AR | 03/09/20 | 03/06/20
95797 | Concentrix CVG Corporation (State/One-Stop) | Laredo, TX | 03/10/20 | 03/09/20
95798 | Corsicana Bedding, LLC (State/One-Stop) | Dallas, TX | 03/10/20 | 03/09/20
95799 | Eaton Hydraulics LLC (Company) | Shawnee, OK | 03/10/20 | 03/05/20
95800 | Xerox Corporation (State/One-Stop) | Webster, NY | 03/10/20 | 03/09/20
95801 | A&I Products—John Deere (State/One-Stop) | Williamsport, PA | 03/11/20 | 03/10/20
95802 | Caldwell Corporation (Company) | Emporium, PA | 03/11/20 | 03/10/20
95803 | Crown Cork and Seal (State/One-Stop) | Omaha, NE | 03/11/20 | 03/10/20
95804 | Imperial Health LLP (State/One-Stop) | Lake Charles, LA | 03/11/20 | 03/10/20
95805 | Russell Stover Chocolates, LLC (State/One-Stop) | Montrose, CO | 03/11/20 | 03/10/20
95806 | United Steel, Inc. (State/One-Stop) | East Hartford, CT | 03/11/20 | 03/10/20
95807 | Denton Publications (State/One-Stop) | Elizabethtown, NY | 03/12/20 | 03/11/20
95808 | Dispensing Dynamics (Company) | City of Industry, CA | 03/12/20 | 03/11/20
95809 | Formfactor (State/One-Stop) | Beaverton, OR | 03/12/20 | 03/11/20
95810 | Papyrus Stationary (State/One-Stop) | St. Louis, MO | 03/12/20 | 03/11/20
95811 | OptumRX (State/One-Stop) | Phoenix, AZ | 03/13/20 | 03/12/20
95812 | Smiths Detection (Company) | Edgewood, MD | 03/13/20 | 03/04/20
95813 | United States Steel Corporation, Minnesota Operations (State/One-Stop) | Mountain Iron, MN | 03/13/20 | 03/12/20
95814 | Dun and Bradstreet (State/One-Stop) | Tucson, AZ | 03/16/20 | 03/13/20
95815 | Knoll, Inc. (State/One-Stop) | Grand Rapids, MI | 03/16/20 | 03/13/20
95816 | Noron Composite Technologies, Inc. (State/One-Stop) | Grant Township, MI | 03/16/20 | 03/13/20
95817 | HCL America, Inc. (State/One-Stop) | Wethersfield, CT | 03/17/20 | 03/16/20
95818 | Regal Beloit Corporation (Union) | Valparaiso, IN | 03/17/20 | 03/16/20
95819 | Southwire, LLC. (Workers) | Hayesville, NC | 03/17/20 | 03/16/20
95820 | Timberland Forest Products (State/One-Stop) | West Plains, MO | 03/17/20 | 03/16/20
95821 | Cox Machine (State/One-Stop) | Harper, KS | 03/18/20 | 03/17/20
95822 | Ricoh USA, Inc. (State/One-Stop) | Houston, TX | 03/18/20 | 03/17/20
95823 | SMB Corporation (State/One-Stop) | Wichita, KS | 03/18/20 | 03/17/20
95824 | HCL America , INC (formally—Xerox) (State/One-Stop) | Lewisville, TX | 03/19/20 | 03/18/20
95825 | Steelcase Inc. (State/One-Stop) | Grand Rapids, MI | 03/19/20 | 03/18/20
95826 | Wexco Corporation (Union) | Lynchburg, VA | 03/19/20 | 03/18/20
95827 | AMETEK Instrumentation Systems (Company) | Grand Junction, CO | 03/20/20 | 03/19/20
95828 | Petrosmith (State/One-Stop) | Abilene, TX | 03/20/20 | 03/10/20
95829 | Takeda Pharmaceuticals (State/One-Stop) | Thousand Oaks, CA | 03/20/20 | 03/19/20
95830 | Wayzata Home Products (State/One-Stop) | Edina, MN | 03/20/20 | 03/19/20
95831 | Basic Energy Services (State/One-Stop) | San Angelo, TX | 03/23/20 | 03/20/20
95832 | F5 Networks, Inc. (State/One-Stop) | Liberty Lake, WA | 03/23/20 | 03/17/20
95833 | Formtek-Maine (State/One-Stop) | Clinton, ME | 03/23/20 | 03/20/20
95834 | Nichols Oil Tools (State/One-Stop) | San Angelo, TX | 03/23/20 | 03/20/20
95835 | NTT Limited (State/One-Stop) | Omaha, NE | 03/23/20 | 03/20/20
95836 | Precision for Medicine (State/One-Stop) | Norwalk, CT | 03/23/20 | 03/20/20
95837 | Echo Canyon Energy Products Supply, LLC (State/One-Stop) | San Angelo, TX | 03/24/20 | 03/23/20
95838 | EFI (Workers) | Fremont, CA | 03/24/20 | 03/23/20
95839 | IPSCO Koppel Tubulars, Inc. (subsidiary of Tenaris) (State/One-Stop) | Baytown, TX | 03/24/20 | 03/23/20
95840 | Northwest Hardwoods (State/One-Stop) | Garibaldi, OR | 03/24/20 | 03/23/20
95841 | Pier 1 Imports (State/One-Stop) | Jonesboro, AR | 03/24/20 | 03/23/20
95842 | Pier 1 Imports (State/One-Stop) | Kansas City, MO | 03/24/20 | 03/20/20
95843 | Amcor Rigid Packaging (State/One-Stop) | Hazelwood, MO | 03/25/20 | 03/24/20
95844 | Cloud Terre Studio (State/One-Stop) | Winchester, VA | 03/25/20 | 03/24/20
95845 | Danfoss, LLC. (State/One-Stop) | Arkadelphia, AR | 03/25/20 | 03/24/20
95846 | Denver Plastics (State/One-Stop) | Wahoo, NE | 03/25/20 | 03/24/20
95847 | ELO Touch Solutions (State/One-Stop) | Rochester, NY | 03/25/20 | 03/24/20
95848 | FTS International (State/One-Stop) | Hobbs, NM | 03/25/20 | 03/24/20
95849 | Con-Vey (State/One-Stop) | Roseburg, OR | 03/26/20 | 03/25/20
95850 | Hotelbeds (Workers) | Orlando, FL | 03/26/20 | 03/25/20
95851 | Titan Wheel Corporation of Virginia (State/One-Stop) | Saltville, VA | 03/26/20 | 03/25/20
95852 | Coastal Drilling Company, LLC (State/One-Stop) | Corpus Christi, TX | 03/27/20 | 03/26/20
95853 | Oracle America (State/One-Stop) | Reston, VA | 03/27/20 | 03/26/20
95854 | Flir Systems, Inc. (State/One-Stop) | Wilsonville, OR | 03/30/20 | 03/27/20
95855 | Lipan Services, LLC (State/One-Stop) | San Angelo, TX | 03/30/20 | 03/27/20
95856 | Rialto Services, LLC (State/One-Stop) | San Angelo, TX | 03/30/20 | 03/27/20
95857 | WTX Oilfield Services, LLC (State/One-Stop) | San Angelo, TX | 03/30/20 | 03/27/20

[FR Doc. 2020-08522 Filed 4-21-20; 8:45 am]

BILLING CODE 4510-FN-P